DEPARTMENT OF TRANSPORTATION

Federal Aviation Administration

14 CFR Part 39

[Docket No. FAA-2007-0374; Directorate Identifier 2007-SW-02-AD; Amendment 39-15313; AD 2007-26-11]

RIN 2120-AA64

Airworthiness Directives; Intertechnique Zodiac Aircraft Systems, Oxygen Reserve Cylinders

AGENCY: Federal Aviation Administration (FAA), Department of Transportation (DOT).

ACTION: Final rule; request for comments.

SUMMARY: We are adopting a new airworthiness directive (AD) for certain oxygen reserve cylinders. This AD results from mandatory continuing airworthiness information (MCAI) originated by an aviation authority of another country with which we have a bilateral agreement to identify and correct an unsafe condition on an aviation product. The MCAI describes the unsafe condition as:

This Airworthiness Directive (AD) is issued following information concerning the risk of high-pressure oxygen cylinder tearing with sudden emptying. These cylinders are used for missions at high altitudes or to ensure respiratory air for passengers feeling sick.

It has been demonstrated that the material characteristics of the Aluminum Alloy 5283 (AA5283) from which the cylinders are manufactured deteriorate in the course of time and may possibly lead these oxygen cylinders to tear and abruptly vent aboard an aircraft.

This unsafe condition requires immediate action due to the risk of oxygen cylinders exploding on board an aircraft and creating a fire hazard. This AD requires actions that are intended to address this unsafe condition.

DATES: This AD becomes effective January 28, 2008.

We must receive comments on this AD by March 11, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://regulations.gov or in person at the Docket Management Facility between 9 a.m. and 5 p.m., Monday through Friday, except Federal holidays. The AD docket contains this AD, the economic evaluation, any comments received, and other information. The street address for the Docket Office (telephone (800) 647-5227) is in the ADDRESSES section. Comments will be available in the AD docket shortly after receipt.

FOR FURTHER INFORMATION CONTACT: Uday Garadi, Aviation Safety Engineer, FAA, Rotorcraft Directorate, Regulations and Guidance Group, Fort Worth, Texas 76193-0110, telephone (817) 222-5123, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

The European Aviation Safety Agency (EASA), which is the technical agent for the member states of the European community, has issued EASA AD No. 2006-0286R1, dated March 22, 2007, to correct an unsafe condition for the specified products.

The MCAI states:

This Airworthiness Directive (AD) is issued following information concerning the risk of high-pressure oxygen cylinder tearing with sudden emptying. These cylinders are used for missions at high altitudes or to ensure respiratory air for passengers feeling sick.

It has been demonstrated that the material characteristics of the Aluminum Alloy 5283 (AA5283) from which the cylinders are manufactured deteriorate in the course of time and may possibly lead these oxygen cylinders to tear and abruptly vent aboard an aircraft.

You may obtain further information by examining the MCAI and the service information in the AD docket.

Relevant Service Information

Intertechnique has issued Service Bulletin No. GLD/GLF-35-150, dated September 20, 2006 and Eurocopter has issued Alert Service Bulletin Nos. 05.00.54 for the Model AS350B3 helicopters and 05.42 for the Model SA 315B helicopters, both dated August 16, 2006. The actions described in the MCAI are intended to correct the same unsafe condition identified in the service information.

FAA's Determination and Requirements of This AD

The Model Airbus 300 series; Pilatus P-6; Dassault Aviation Mystere-Falcon 20; Falcon 50, Falcon 200, and Falcon 900 airplanes; Eurocopter AS350 and Eurocopter SA315 helicopters; and other aircraft may be equipped with these oxygen reserve cylinders, which are not approved by the Department of Transportation (DOT). Without the DOT approval, these oxygen reserve cylinders are not eligible for use in aircraft operating in the United States. Pursuant to our bilateral agreement with France, the State of Design, we have been notified of the unsafe condition described in the MCAI and service information. We are issuing this AD because we evaluated all pertinent information and determined the unsafe condition exists and is likely to exist or develop on aircraft of various type designs.

Differences Between the AD and the MCAI or Service Information

We have reviewed the MCAI and related service information and, in general, agree with their substance. However, we have made the following changes:

• The MCAI requires removal of the affected oxygen cylinders at specific time intervals; however, this AD requires removal before further flight.

• The MCAI requires certain procedures to be used for emptying the cylinders as well as certain action for cylinders held as spares.

These actions are beyond the scope of the action needed to correct this unsafe condition and are not included in this AD. These differences are highlighted in the “Differences Between the FAA AD and the MCAI” section of this AD.

FAA's Determination of the Effective Date

An unsafe condition exists that requires the immediate adoption of this AD. The FAA has found that the risk to the flying public justifies waiving notice and comment prior to adoption of this rule because of the risk of oxygen cylinders exploding on board an aircraft and creating a fire hazard. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2007-0374; Directorate Identifier 2007-SW-02-AD” at the beginning of your comments. We specifically invite comments on the overall regulatory, economic, environmental, and energy aspects of this AD. We will consider all comments received by the closing date and may amend this AD because of those comments.

We will post all comments we receive, without change, to http://regulations.gov including any personal information you provide. We will also post a report summarizing each substantive verbal contact we receive about this AD.

Costs of Compliance

We estimate that this AD will affect about 468 aircraft of U.S. registry. We also estimate that it will take about ½ of a work-hour per aircraft to remove the cylinders. The average labor rate is $80 per work-hour. Based on these figures, we estimate the cost of this AD on U.S. operators to be $4000, assuming that oxygen cylinders are installed on 100 aircraft.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-26-11 Intertechnique Zodiac Aircraft Systems: Amendment 39-15313. Docket No. FAA-2007-0374; Directorate Identifier 2007-SW-02-AD.

Effective Date

(a) This airworthiness directive (AD) becomes effective January 28, 2008.

Other Affected ADs

(b) None.

Applicability

(c) This AD applies to Intertechnique (F5341), aluminum alloy AA5283, oxygen cylinders manufactured by Societe Metallurgique de Gerzat SAS with GLD series, GLF series, PC2300 or SLF300 part numbers, installed in any aircraft certificated in any category. These oxygen reserve cylinders are installed on but not limited to Model Airbus 300 series; Pilatus P-6; Dassault Aviation Mystere-Falcon 20, Falcon 50, Falcon 200, and Falcon 900 airplanes; and Eurocopter AS350 and Eurocopter SA315 helicopters.

Reason

(d) The mandatory continued airworthiness information (MCAI) states:

This Airworthiness Directive (AD) is issued following information concerning the risk of high-pressure oxygen cylinder tearing with sudden emptying. These cylinders are used for missions at high altitudes or to ensure respiratory air for passengers feeling sick.

It has been demonstrated that the material characteristics of the Aluminum Alloy 5283 (AA5283) from which the cylinders are manufactured deteriorate in the course of time and may possibly lead these oxygen cylinders to tear and abruptly vent aboard an aircraft.

Actions and Compliance

(e) Unless already done, remove any affected oxygen reserve cylinder before further flight.

Differences Between the FAA AD and the MCAI

(f) This AD differs from the MCAI as follows:

(1) The MCAI requires removal of the affected oxygen cylinders at specific time intervals; however, this AD requires removal before further flight.

(2) The MCAI requires certain procedures to be used for emptying the cylinders as well as certain action for cylinders held as spares. These actions are beyond the scope of the action needed to correct this unsafe condition and are not included in this AD.

Subject

(g) Air Transport Association of America (ATA) Code 3530: Portable Oxygen System.

Other Information

(h) The following provisions also apply to this AD:

(1) Alternative Methods of Compliance (AMOCs): The Manager, Safety Management Group, FAA, has the authority to approve AMOCs for this AD, if requested using the procedures found in 14 CFR 39.19. Send information to ATTN: Uday Garadi, Aviation Safety Engineer, Regulations and Guidance Group, Fort Worth, Texas 76193-0110, telephone (817) 222-5123, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(i) Mandatory Continuing Airworthiness Information (MCAI) EASA Airworthiness Directive No. 2006-0286R1, dated March 22, 2007; Intertechnique Service Bulletin No. GLD/GLF-35-150, dated September 20, 2006; and Eurocopter Alert Service Bulletin Nos. 05.00.54 for the Model AS350B3 and 05.42 for the Model SA315B, both dated August 16, 2006, contain related information.

Issued in Fort Worth, Texas, on December 3, 2007.
David A. Downey,
Manager, Rotorcraft Directorate, Aircraft Certification Service.

[FR Doc. E7-25391 Filed 1-10-08; 8:45 am]

BILLING CODE 4910-13-P